DEPARTMENT OF ENERGY

Federal Energy Regulatory Commission

Combined Notice of Filings #1

Take notice that the Commission received the following electric rate filings:

Docket Numbers: ER12-2313-001.

Applicants: Laurel Hill Wind Energy, LLC.

Description: MBR Amendment to be effective 9/10/2012.

Filed Date: 9/19/12.

Accession Number: 20120919-5103.

Comments Due: 5 p.m. ET 10/10/12.

Docket Numbers: ER12-2526-001.

Applicants: AEP Texas Central Company.

Description: Petronila Wind Farm PDA Amended & Restated to be effective 10/4/2012.

Filed Date: 9/19/12.

Accession Number: 20120919-5074.

Comments Due: 5 p.m. ET 10/10/12.

Docket Numbers: ER12-2528-000.

Applicants: High Mesa Energy, LLC.

Description: High Mesa Energy, LLC submits this supplement to the Application for Order Authorizing Market-Based Rates and Request for Certain Waivers and Blanket Authorizations filed 8/27/12.

Filed Date: 9/19/12.

Accession Number: 20120919-5123.

Comments Due: 5 p.m. ET 10/10/12.

Docket Numbers: ER12-2656-000.

Applicants: Tucson Electric Power Company.

Description: Tucson Electric Power Company submits tariff filing per 35.12: Certificate of Concurrence to Perrin Wind LGIA to be effective 10/21/2011.

Filed Date: 9/19/12.

Accession Number: 20120919-5054.

Comments Due: 5 p.m. ET 10/10/12.

Docket Numbers: ER12-2657-000.

Applicants: AEP Texas Central Company.

Description: AEP Texas Central Company submits tariff filing per 35.13(a)(2)(iii): Javelina Wind Energy PDA to be effective 8/28/2012.

Filed Date: 9/19/12.

Accession Number: 20120919-5064.

Comments Due: 5 p.m. ET 10/10/12.

Docket Numbers: ER12-2658-000.

Applicants: Pacific Gas and Electric Company.

Description: Tridam Project—Tulloch Powerhouse LGIA to be effective 3/31/2012.

Filed Date: 9/19/12.

Accession Number: 20120919-5075.

Comments Due: 5 p.m. ET 10/10/12.

Docket Numbers: ER12-2659-000.

Applicants: Public Service Company of Colorado.

Description: 2012-9-19_WAPA_Richard Lk Mtr 308 NOC to be effective 11/19/2012.

Filed Date: 9/19/12.

Accession Number: 20120919-5104.

Comments Due: 5 p.m. ET 10/10/12.

Docket Numbers: ER12-2660-000.

Applicants: Northern States Power Company, a Minnesota Corporation.

Description: Northern States Power Company, a Minnesota Corporation submits Notice of Cancellation of Alternative Transmission Service Agreement with L&O Cooperative.

Filed Date: 9/19/12.

Accession Number: 20120919-5118.

Comments Due: 5 p.m. ET 10/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2012.
Nathaniel J. Davis, Sr.,
Deputy Secretary.

[FR Doc. 2012-23785 Filed 9-26-12; 8:45 am]

BILLING CODE 6717-01-P